DEPARTMENT OF JUSTICE

Antitrust Division

Notice Pursuant to the National Cooperative Research and Production Act of 1993—Southwest Research Institute: Diesel Aftertreatment Sensitivity to Lubricants (DASL) and Non-Thermal Catalyst Deactivation (N-TCD)

Notice is hereby given that, on July 2, 2002, pursuant to section 6(a) of the National Cooperative Research and Production Act of 1993, 15 U.S.C. 4310 et seq. (“the Act”), Southwest Research Institute: Diesel Aftertreatment Sensitivity to Lubricants (DASL) and Non-Thermal Catalyst Deactivation (N-TCD) has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the current identities of the parties are Caterpillar, Inc., Mossville, IL; Chevron Oronite Company LLC, Richmond, CA; Corning Incorporated, Corning, NY; Exxon Mobile Research and Engineering, Clinton, NJ; Infineum International Limited, Abingdon, Oxfordshire, UNITED KINGDOM; Lubrizol Corporation, Wickliffe, OH; and NGK-Locke, Inc., Southfield, MI. The nature and objectives of the venture are to investigate the potential for lubricating oils to degrade or poison emissions control systems for diesel and gasoline engines. The DASL portion of the investigation is a parametric study which is designed to expose various diesel emissions controls systems to oil combustion byproducts. The effects of the lubricating oil components, such as sulfur, phosphorus, zinc, calcium, and boron will be determined by measuring the deactivation of the emissions control systems as a consequence of oil exposure. The N-TCD portion of the investigation is a research/mechanistic study intended to explore the mechanisms of emissions control system deactivation as a result of oil exposure; for example, phosphorus poisoning of three-way catalysts.

Membership in this research group remains open, and the participants intend to file additional written notification disclosing all changes in membership and planned activities.

Constance K. Robinson,
Director of Operations, Antitrust Division.

[FR Doc. 02-20141 Filed 8-8-02; 8:45 am]

BILLING CODE 4410-11-M